DEPARTMENT OF ENERGY

Federal Energy Regulatory Commission

[Project No. 2368-059]

Notice of Application Tendered for Filing With the Commission and Establishing Procedural Schedule for Licensing and Deadline for Submission of Final Amendments; Algonquin Northern Maine Generating Company

Take notice that the following hydroelectric application has been filed with the Commission and is available for public inspection.

a. Type of Application: Subsequent Minor License.

b. Project No.: 2368-059.

c. Date Filed: December 3, 2019.

d. Applicant: Algonquin Northern Maine Generating Company (Algonquin).

e. Name of Project: Scopan Hydroelectric Project.

f. Location: The existing project is located on Scopan Stream in the Town of Masardis in Aroostook County, Maine. The project does not affect federal lands.

g. Filed Pursuant to: Federal Power Act, 16 U.S.C. 791(a)-825(r).

h. Applicant Contact: Ian MacRobbie, Vice President, Operations, Algonquin Northern Maine Generating Company, 26 Canal Bank, Windsor Locks, Connecticut 06096; Telephone (905) 465-6119.

i. FERC Contact: John Baummer, (202) 502-6837 or john.baummer@ferc.gov.

j. This application is not ready for environmental analysis at this time.

k. Project Description: The existing Scopan Hydroelectric Project consists of: (1) A 750-foot-long dam that includes: (a) A 330-foot-long, 45-foot-high earthen embankment section (north embankment) with a 194-foot-long, 49-foot-high concrete retaining wall at the downstream end of the embankment; (b) a 24-foot-long, 45-foot-high concrete gravity spillway section with a crest elevation of 590 feet National Geodetic Vertical Datum of 1929 (NGVD) and a single 13.5-foot-high spillway gate with two 10-inch-diameter minimum flow butterfly valves; (c) a 26-foot-long, 48-foot-high concrete intake and powerhouse section that includes: (i) Two 12-inch-wide head gates and trashracks with 3-inch clear-bar spacing; and (ii) a 26-foot-long, 49-foot-high concrete powerhouse with a single 1.5-megawatt vertical propeller turbine-generator unit; and (d) a 370-foot-long, 45-foot-high earthen embankment section (south embankment) with a 135.5-foot-long, 45-foot-high concrete retaining wall at the downstream end of the embankment; (2) an approximately 15-mile-long, 5,000-acre impoundment (Scopan Lake) with a useable storage volume of 57,920 acre-feet between elevations 590.5 and 603.2 feet NGVD; (3) three 13.45/2.4-kilovolt transformers and switch gear that connect the generator to Emera, Maine's regional transmission line; and (4) appurtenant facilities.

The project operates in a store and release mode in which the impoundment is drawdown from January through March of each year to meet electricity demand in the winter. During the spring and summer, the impoundment is maintained at or near the full pond levels to protect and enhance fisheries, wetlands, wildlife and recreational resources. Algonquin manages the project to augment flows in the Aroostook River downstream of the project for generation at the Aroostook River Project No. 2367 and the Tinker Falls Project, the latter of which is located in New Brunswick Canada and is not a FERC-licensed project. The Scopan Project had an average annual generation of approximately 878,913 kilowatt-hours from 2012 through 2018.

The project's current license requires Algonquin to: (1) To maintain Scopan Lake water levels as follows: (a) From May 15 to July 31, fluctuate Scopan Lake by no more than one foot; (b) from July 16 to Labor Day, target Scopan Lake between 601.0 to 603.0 feet NGVD; and (c) from October 1 to November 15, maintain Scopan Lake at or above 601.0 feet NGVD; (2) release minimum flows of 21 cubic feet per second (cfs) from December 1 through May 15, and 25 cfs from May 16 through November 30; (3) close one of the two minimum flow valves if Scopan Lake falls below 601.5 feet NGVD; (4) close both minimum flow valves if Scopan Lake falls below 601 feet NGVD; and (5) limit the maximum discharge from the project to not more than 600 cfs from April 1 to November 30.

Algonquin proposes to: (1) Maintain Scopan Lake water surface elevations as follows: (a) From June 1 to July 31 limit water level fluctuations in Scopan Lake to no more than 0.5 vertical foot upward or 1.0 vertical foot downward within any 28-day period from June 1 through July 31;(b) from August 1 through Labor Day, maintain the water elevation of Scopan Lake between 601.0 and 603.0 feet NGVD; (c) from October 1 through November 15, maintain the water elevation of Scopan Lake above 601.0 feet NGVD; (d) limit winter drawdowns of Scopan Lake to no lower than 595.3 feet NGVD from November 16 to May 14; (2) limit the maximum discharge from the project to not more than 600 cfs from June 1 to November 30; and (3) continue to release a continuous minimum flow of 21 cfs including leakage from the minimum flow valves unless water levels in Scopan Lake fall below 601.5 feet NGVD from May 16 through November 30, in which case one valve would be closed.

l. Locations of the Application: A copy of the application is available for review at the Commission in the Public Reference Room or may be viewed on the Commission's website at http://www.ferc.gov using the eLibrary link. Enter the docket number excluding the last three digits in the docket number field to access the document. For assistance, please contact FERC Online Support at FERCOnlineSupport@ferc.gov, (866) 208-3676 (toll free), or (202) 502-8659 (TTY). A copy is also available for inspection and reproduction the Ashland Community Library, 57 Exchange Street, Ashland, Maine 04732.

m. You may also register online at http://www.ferc.gov/docs-filing/esubscription.asp to be notified via email of new filings and issuances related to this or other pending projects. For assistance, contact FERC Online Support.

n. Procedural Schedule: The application will be processed according to the following preliminary Hydro Licensing Schedule. Revisions to the schedule may be made as appropriate.

Milestone | Target Date
Notice of Acceptance/Notice of Ready for Environmental Analysis | April 2020.
Filing of recommendations, preliminary terms and conditions, and fishway prescriptions | June 2020.
Commission issues Environmental Assessment | September 2020.
Comments on the EA | October 2020.
Modified terms and conditions | December 2020.

o. Final amendments to the application must be filed with the Commission no later than 30 days from the issuance date of the notice of ready for environmental analysis.

Dated: December 17, 2019.
Nathaniel J. Davis, Sr.,
Deputy Secretary.

[FR Doc. 2019-28071 Filed 12-27-19; 8:45 am]

BILLING CODE 6717-01-P